DEPARTMENT OF DEFENSE

Department of the Army

Board of Visitors, United States Military Academy (USMA)

AGENCY: Department of the Army, DoD.

ACTION: Notice of open meeting.

SUMMARY: In accordance with Section 10(a)(2) of the Federal Advisory Committee Act (Pub. L. 92-463), announcement is made of the following committee meeting:

Name of Committee: Board of Visitors, United States Military Academy.

Date: Sunday, July 14, 2007.

Place of Meeting: The Superintendent's Conference Room, Building 600 (Taylor Hall), West Point, NY.

Time of Meeting: Approximately 12:30 p.m. through 4:30 p.m.

Board Mission: The Board, under the provisions of 10 U.S.C. 4355, and the Federal Advisory Committee Act of 1972, as amended, shall provide the President of the United States independent advice and recommendations on matters relating to the U.S. Military Academy, to include but not limited to morale and discipline, curriculum, instruction, physical equipment, and academic methods.

Board Membership: The Board is composed of 15 members, 9 of which are members of Congress and 6 persons designated by the President. The 2007 Chairman of the Board is Congressman John McHugh, New York—23rd District.

FOR FURTHER INFORMATION CONTACT: Ms. Cynthia Kramer, United States Military Academy, West Point, NY 10996-5000, (845) 938-5078 or via e-mail: Cynthia.kramer@usma.edu.

SUPPLEMENTARY INFORMATION: Proposed Agenda: Summer Meeting of the Board of Visitors. The Board plans to inquire into instruction and physical equipment, and the BRAC relocation of the United States Military Academy Preparatory School. Board members will observe Cadet Summer Training and participate in roundtable discussions with cadet leadership. Members will receive tours and briefings on renovated Cadet Barracks, Jefferson Hall Library and Learning Center, the West Point Museum, and the BRAC-approved United States Military Academy Preparatory School (USMAPS) location at West Point. All Board meeting proceedings are open to the public. Picture identification is required to enter West Point.

Public Inquiry at Board Meetings: Any member of the public is permitted to file a written statement with the USMA Board of Visitors. Written statements should be sent to the Designated Federal Officer (DFO) at: United States Military Academy, Office of the Secretary of the General Staff (MASG), 646 Swift Road, West Point, NY 10996-1905 or faxed to the Designated Federal Officer (DFO) at (845) 938-3214. Written statements must be received no later than five working days prior to the next meeting in order to provide time for member consideration.

By rule, no member of the public attending open meetings will be allowed to present questions from the floor or speak to any issue under consideration by the Board.

Brenda S. Bowen,
Army Federal Register Liaison Officer.

[FR Doc. 07-3000 Filed 6-18-07; 8:45 am]

BILLING CODE: 3710-08-M